FEDERAL COMMUNICATIONS COMMISSION

47 CFR Part 73

[DA 02-1154, MM Docket No. 02-31; RM-10351]

Radio Broadcasting Services; Horn Lake & Olive Branch, MS and Memphis, TN

AGENCY: Federal Communications Commission.

ACTION: Final rule.

SUMMARY: This document reallots Channel 239A from Olive Branch, Mississippi, to Horn Lake, Mississippi, and modifies the license for Station WOTO accordingly in response to a petition filed by Clear Channel Broadcasting Licenses, Inc. See 67 FR 14664, March 27, 2002. The coordinates for Channel 239A at Horn Lake are 35-04-19 and 89-59-13. We shall also reallot Channel 266C1 from Memphis, Tennessee, to Olive Branch, Mississippi, and modify the license for Station KJMS to specify operation at Olive Branch. The coordinates for Channel 266C1 at Olive Branch are 35-08-01 and 90-05-38, accordingly. With this action, this proceeding is terminated.

DATES: Effective July 1, 2002.

FOR FURTHER INFORMATION CONTACT: Kathleen Scheuerle, Media Bureau, (202) 418-2180.

SUPPLEMENTARY INFORMATION: This is a summary of the Commission's Report and Order, MM Docket No. 02-31, adopted May 1, 2002, and released May 17, 2002. The full text of this Commission decision is available for inspection and copying during regular business hours in the Commission's Reference Information Center, Portals II, 445 12th Street, SW, Room CY-A257, Washington, DC 20554. This document may also be purchased from the Commission's duplicating contractor, Qualex International, Portals II, 445 12th Street, SW, Room CY-B402, Washington, DC 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Mississippi, is amended by removing Channel 239A and adding Channel 266C1 at Olive Branch and by adding Horn Lake, Channel 239A.

3. Section 73.202(b), the Table of FM Allotments under Tennessee, is amended by removing Channel 266C1 at Memphis.

Federal Communications Commission.
John A. Karousos,
Assistant Chief, Audio Division, Office of Broadcast License Policy, Media Bureau.

[FR Doc. 02-13825 Filed 5-31-02; 8:45 am]

BILLING CODE 6712-01-P